DEPARTMENT OF ENERGY

Federal Energy Regulatory Commission

Notice of Temporary Variance and Soliciting Comments, Motions To Intervene, and Protests

August 14, 2002.

Take notice that the following application has been filed with the Commission and is available for public inspection:

a. Application Type: Request of temporary variance for this water year to allow the diversion of 20,000 additional acre-feet of storage water for irrigation purposes.

b. Project No.: 1835-219

c. Date Filed: July 31, and August 5, 2002

d. Applicant: Nebraska Public Power District

e. Name of Project: North Platte/Keystone Diversion Dam

f. Location: The project is located on the North and South Platte Rivers in Keith and Lincoln Counties, Nebraska

g. Filed Pursuant to: Federal Power Act, 16 USC 791(a)- 825(r) and sections 799 and 801.

h. Applicant Contact: Brian Barels, Nebraska Public Power District, P.O. Box 0499, Columbus, NE 68602-0499

i. FERC Contact: Any questions on this notice should be addressed to Diana Shannon at (202) 502-8887, or e-mail address: diana.shannon@ferc.gov

j. Deadline for filing comments and or motions: September 13, 2002.

All documents (original and eight copies) should be filed with: Magalie R. Salas, Secretary, Federal Energy Regulatory Commission, 888 First Street, NE., Washington, DC 20426. Please include the following number (P-1835-219) on any comments or motions filed.

k. Description of Request: For the current water year, Nebraska Public Power District (NPPD) requests the Commission to allow for the diversion of up to 20,000 additional acre-feet (af) of storage water for surface water irrigation purposes in the Gothenburg, Dawson, and Kearney canals. Currently, NPPD is limited to 45,070 af as required by article 403 of the license. At this time, NPPD states western and south-central Nebraska is under severe drought conditions which necessitates this request. The NPPD included with the filing an agreement with Central Nebraska Public Power and Irrigation District [licensee for the Kingsley Dam Project (FERC No. 1417)] , dated July 30, 2002, in which Central has the right to require ‘repayment' of the water next year or other year through 2007. The NPPD consulted with and received concurrence from the Nebraska Games and Parks Commission and the U.S. Fish and Wildlife Service. Other entities notified include the Nebraska Audubon Society and the Platte River Whooping Crane Maintenance Trust. On August 9, 2002, the Commission granted NPPD's request, but reserved authority to require changes in operation based upon comments received from this notice.

l. Location of Application: This filing is available for review at the Commission in the Public Reference Room or may be viewed on the Commission's website at http://www.ferc.gov using the “FERRIS” link. Enter the docket number excluding the last three digits in the docket number field to access the document. For assistance, call (202) 208-1371 or for TTY, (202) 208-1659.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, state, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See 18 CFR 385.2001(a)(1)(iii) and the instructions on the Commission's web site at http://www.ferc.gov under the “e-Filing” link. The Commission strongly encourages electronic filings.

Linwood A. Watson, Jr.,
Deputy Secretary.

[FR Doc. 02-21149 Filed 8-19-02; 8:45 am]

BILLING CODE 6717-01-P